DEPARTMENT OF JUSTICE

Drug Enforcement Administration

Importer of Controlled Substances; Notice of Registration

By notice dated February 4, 2004 and published in the Federal Register on February 18, 2004, (69 FR 7656), Lipomed, Inc., One Broadway, Cambridge, Massachusetts 02142, made application to the Drug Enforcement Administration (DEA) to be registered as an importer of the basic classes of controlled substances listed below:

Drug | Schedule
Cathinone (1235) | I
Methaqualone (2565) | I
Gamma-Hydroxybutyric Acid (2010) | I
Lysergic acid diethylamide (7315) | I
Marihuana (7360) | I
Tetrahydrocannabinols (7370) | I
Mescaline (7381) | I
3, 4, 5-Trimethoxyamphetamine (7390) | I
4-Bromo-2-5-dimethoxyamphetamine (7391) | I
4-Methyl-2, 5-dimethoxyamphetamine (7395) | I
2, 5-Dimethoxyamphetamine (7396) | I
2, 5-Dimethoxy-4-ethylamphetamine (7399) | I
3, 4-Methylenedioxyamphetamine (7400) | I
3, 4-Methylenedioxy-N-ethylamophetamine (7404) | I
3, 4-Methylenedioxymethamphetamine (7405) | I
Psilocybin (7437) | I
Psilocyn (7438) | I
Acetyldihydrocodeine (9051) | I
Dihydromorphine (9145) | I
Heroin (9200) | I
Tilidine (9750) | I
Amphetamine (1100) | II
Methamphetamine (1105) | II
Amobarbital (2125) | II
Secobarbital (2315) | II
Phencyclidine (7471) | II
Cocaine (9041) | II
Codeine (9050) | II
Dihydrocodeine (9120) | II
Oxycodone (9143) | II
Hydromorphone (9150) | II
Benzoylecgonine (9180) | II
Hydrocodone (9193) | II
Levorphanol (9220) | II
Methadone (9250) | II
Dextropropoxyphene (9273) | II
Morphine (9300) | II
Thebaine (9333) | II
Oxymorphone (9652) | II
Alfentanil (9737) | II
Fentanyl (9801) | II

The firm plans to import small reference standard quantities of finished commercial product from its sister company in Switzerland for sale to its customers for drug testing and pharmaceutical research and development.

No comments or objections have been received. DEA has considered the factors contained in Title 21, United States Code, Section 823(a) and determined that the registration of Lipomed, Inc. to import the listed controlled substance is consistent with the public interest and with United States obligations under international treaties, conventions, or protocols in effect on May 1, 1971, at this time. DEA has investigated Lipomed, Inc. to ensure that the company's registration is consistent with the public interest. This investigation included inspection and testing of the compnay's physical security systems, verification of the company's compliance with state and local laws, and a review of the company's background and history. Therefore, pursuant to Section 1008(a) of the Controlled Substances Import and Export Act and in accordance with Title 21, Code of Federal Regulations, Section 1301.34, the above firm is granted registration as an importer of the basic class of controlled substance listed above.

Dated: June 28, 2004.
William J. Walker,
Deputy Assistant Administrator, Office of Diversion Control, Drug Enforcement Administration.

[FR Doc. 04-18169 Filed 8-9-04; 8:45 am]

BILLING CODE 4410-09-M